DEPARTMENT OF THE INTERIOR

Bureau of Land Management

[CA-190-05-1220-PN]

Notice of Seasonal Closure of Certain Public Lands Referred to as the Serpentine Area of Critical Environmental Concern (ACEC), Located in the Southern Portion of San Benito County and Western Fresno County, Central Coast Region of California, to All Types of Motorized and Non-Motorized Recreation Use

AGENCY: Bureau of Land Management, Department of the Interior.

ACTION: Notice of seasonal closure of public lands.

SUMMARY: Pursuant to 43 Code of Federal Regulations (CFR) subpart 8364, notice is hereby given that the Bureau of Land Management (BLM), Hollister Field Office will seasonally restrict public access to certain BLM-administered public lands during the period of June 4, 2005 through October 15, 2005. This seasonal closure is needed to ensure visitor safety and protect public land users from potential health risks associated with naturally occurring asbestos found within the closure area. The BLM may also implement a visitor use permit system to control public access during the period October 16-June 1. A permit system will provide an opportunity to educate the public on the risks related to recreation use in areas of naturally occurring asbestos.

DATES: This seasonal closure is effective from June 4, 2005 through October 15, 2005.

ADDRESSES: Bureau of Land Management (BLM) Hollister Field Office, 20 Hamilton Court, Hollister, California, 95023.

FOR FURTHER INFORMATION CONTACT: George Hill, Assistant Field Manager, Telephone: 831-630-5036 Fax: 831-630-5055, during regular business hours, 7:30 a.m. to 4 p.m., Monday through Friday, except holidays.

SUPPLEMENTARY INFORMATION: This seasonal closure affects public lands located within the 30,000-acre Serpentine Area of Critical Environmental Concern (ACEC) situated within the Clear Creek Management Area (CCMA). Except for travel on county roads, public access within this area will be allowed only by written authorization from the Hollister Field Manager. Personnel of the BLM, California Department of Fish and Game, U.S. Fish & Wildlife Service, and law enforcement, fire, and emergency personnel are exempt from this closure only when performing official duties. Operators of communication facilities may perform maintenance activities; livestock operators may perform permitted activities, and private in-holders may access their private property, as approved.

The CCMA is a popular location for off-highway vehicle (OHV) recreation. A variety of other recreation activities also occur within the CCMA, including hunting, rock-hounding, wildlife watching, and hiking. This is a unique geological area with serpentine soils and a suite of rare plants and animals. The type and level of OHV use also must be carefully managed to create an environment that promotes the health and safety of visitors.

BLM will be restricting public access during the dry season within the CCMA, in response to studies being conducted by the U.S. Environmental Protection Agency (EPA), which are analyzing the exposure levels of various recreationists to naturally occurring asbestos at the CCMA. Studies conducted by EPA in September of 2004 found elevated levels of airborne asbestos fibers present during various recreation activities. This action is also in accordance with the 1995 Final Environmental Impact Statement (FEIS) and Resource Management Plan Amendment for the CCMA.

The soil moisture during the time period of June through October is at the lowest point and therefore the dust generating potential and release of naturally occurring airborne asbestos is greatest. Analysis of airborne asbestos exposure reflected in EPA's Technical Memorandum issued February 5, 2005, titled “Human Health Risk Assessment “ Asbestos Air Sampling Clear Creek Management Area, California,” based on samples collected September 15, 2004, indicate a higher risk from airborne asbestos exposure in CCMA than EPA and BLM previously thought. Based on preliminary EPA results, use restrictions in CCMA may be needed to reduce risk to the public from asbestos exposure, particularly during the dry season.

Closure Order:

Pursuant to 43 CFR 8364.1, notice is hereby given that the BLM is seasonally restricting access to portions of public lands within the Clear Creek Management Area (CCMA) located in the southern portion of San Benito County and western Fresno County, California. A closure order to this effect was signed on May 25, 2005. All public access, including motorized and non-motorized recreation use is restricted on public lands within the Serpentine ACEC from June 4, 2005 through October 15, 2005. These lands are located in the Mount Diablo Meridian in portions of T.17 S., R. 11 E.; T. 17 S., R. 12 E.; T. 18 S., R 11 E.; T. 18 S., R. 12 E.; T. 18 S., R. 13 E.; T. 19 S., R. 13 E.

This seasonal closure is necessary to ensure visitor safety and protect public land users from potential health risks associated with naturally occurring asbestos found within the restricted area. Dry soil conditions and high dust generating potential from public use activities during this time period create a significant hazard and risk associated with exposure to asbestos.

Except for travel on San Benito County roads, all public access and motorized vehicle travel will be allowed only by written authorization of the Hollister Field Manager. The following persons are exempt from the identified restrictions:

(1) Federal, State, or local law enforcement officers, while engaged in the execution of their official duties.

(2) BLM personnel or their representatives while engaged in the execution of their official duties.

(3) Any member of an organized rescue, fire-fighting force, or emergency medical services organization while in the performance of their official duties.

(4) Any member of a federal, state, or local public works department while in the performance of an official duty.

(5) Any person in receipt of a written authorization of exemption obtained from the authorized officer from the Hollister Field Office.

(6) Private landowners with in-holdings within the restricted area who have a responsibility or need to access their property, and persons with valid existing rights-of-way or lease operations, or representatives thereof.

During the closure period, the area will be clearly posted. Closure signs are posted at main entry points to all locations affected by this Notice. Maps of the area are posted with this notice at key locations that provide access into the closure areas, and may be obtained with further information at the Hollister Field Office, 20 Hamilton Court, Hollister, California 95023.

Seasonal closure orders may be implemented as provided in 43 CFR, subpart 8364.1. Violations of this closure are punishable by a fine not to exceed $1,000 and/or imprisonment not to exceed 12 months.

May 25, 2005.
Robert E. Beehler,
Field Manager.

[FR Doc. 05-14936 Filed 7-27-05; 8:45 am]

BILLING CODE 4310-40-P